DEPARTMENT OF TRANSPORTATION

Office of the Secretary

[Dockets OST-04-17451 and OST-04-17452]

Application of Clay Lacy Aviation, Inc. for Certificate Authority

AGENCY: Department of Transportation.

ACTION: Notice of order to show cause (Order 2004-7-25).

SUMMARY: The Department of Transportation is directing all interested persons to show cause why it should not issue an order finding Clay Lacy Aviation, Inc., fit, willing, and able, and awarding it certificates of public convenience and necessity to engage in interstate and foreign charter air transportation of persons, property and mail.

DATES: Persons wishing to file objections should do so no later than August 10, 2004.

ADDRESSES: Objections and answers to objections should be filed in Dockets OST-04-17452 and OST-04-17451 and addressed to the Department of Transportation Dockets (M-30, Room PL-401), U.S. Department of Transportation, 400 Seventh Street, SW., Washington, DC 20590, and should be served upon the parties listed in Attachment A to the order.

FOR FURTHER INFORMATION CONTACT: Delores King, Air Carrier Fitness Division (X-56, Room 6401), U.S. Department of Transportation, 400 Seventh Street, SW., Washington, DC 20590, (202) 366-9721.

Dated: July 27, 2004.
Robert S. Goldner,
Special Assistant to Assistant Secretary for Aviation and International Affairs.

[FR Doc. 04-17681 Filed 8-3-04; 8:45 am]

BILLING CODE 4910-62-P